DEPARTMENT OF COMMERCE

International Trade Administration

[A-122-503]

Iron Construction Castings from Canada: Notice of Final Results of Changed Circumstances Antidumping Duty Administrative Review

AGENCY: Import Administration, International Trade Administration, Department of Commerce.

SUMMARY: On July 9, 2002, the Department of Commerce (the Department) published a notice of initiation and preliminary results of its changed circumstances review of the antidumping duty order on iron construction castings from Canada. See Notice of Initiation and Preliminary Results of Changed Circumstances Antidumping Duty Administrative Review: Iron Construction Castings from Canada, 67 FR 45461 (July 9, 2002) (Preliminary Results). We have now completed that review. For these final results, as in the Preliminary Results, we determine that during the period covered by the Department's 99-00 antidumping duty administrative review of the order on iron construction castings from Canada (March 1, 1999 through February 29, 2000), the Laperle, Grand Mere, and Bibby Ste-Croix foundries, which had been owned by various legal entities named as respondents in prior segments of this proceeding, were all unincorporated foundries owned by the same company, Canada Pipe Company Ltd.

EFFECTIVE DATE: August 16, 2002.

FOR FURTHER INFORMATION CONTACT: Karine Gziryan or Howard Smith, AD/CVD Enforcement, Group II, Office 4, Import Administration, International Trade Administration, U.S. Department of Commerce, 14th Street and Constitution Avenue, NW, Washington, DC 20230; telephone (202) 482-4081 and (202) 482-5193, respectively.

SUPPLEMENTARY INFORMATION:

Applicable Statute and Regulations

Unless otherwise stated, all citations to the Tariff Act of 1930, as amended (the Act), are references to the provisions effective January 1, 1995, the effective date of the amendments made to the Act by the Uruguay Round Agreements Act (URAA). In addition, unless otherwise indicated, all citations to the Department's regulations are to the regulations codified at 19 CFR Part 351 (April 2002).

Background

On April 12, 2001, the Department published in the Federal Register (66 FR 18900) the final results of the antidumping duty administrative review on iron construction castings from Canada covering the period March 1, 1999 through February 29, 2000. Canada Pipe Company Ltd. (or Canada Pipe) was the sole respondent in the 99-00 administrative review. On May 10, 2002, Canada Pipe submitted a written request that the Department clarify for the U.S. Customs Service (possibly in the context of a changed circumstances review) that the weighted-average margin calculated in the 99-00 administrative review applies to Canada Pipe's unincorporated plants (or foundries) that have “Bibby Ste-Croix,” “Laperle,” “Grand Mere,” or simply “Bibby” in their names.

On July 9, 2002, the Department published a notice of initiation and preliminary results of its changed circumstances antidumping administrative review of the antidumping duty order on iron construction castings from Canada. See Preliminary Results. Interested parties were invited to comment on the preliminary results. On July 22, 2002, Canada Pipe submitted comments. See the “Comments” section below. No other parties submitted comments.

Scope of Review

The merchandise covered by this review consists of certain iron construction castings from Canada, limited to manhole covers, rings, and frames, catch basin grates and frames, cleanout covers and frames used for drainage or access purposes for public utility, water and sanitary systems, classifiable as heavy castings under Harmonized Tariff Schedule (HTS) item numbers 7325.10.0010, 7325.10.0020, and 7325.10.0025¹. The HTS item numbers are provided for convenience and Customs purposes only. The written description remains dispositive.

¹ The scope reflects the HTS item numbers currently in effect.

Final Results of Review

Based on our analysis in the Preliminary Results, we find that during the 99-00 review period, the Laperle, Grand Mere, and Bibby Ste-Croix foundries, which had been owned by various legal entities named as respondents in prior segments of this proceeding, were unincorporated foundries in the Bibby Ste-Croix Division of Canada Pipe Company Ltd. Moreover, we note that during the 99-00 antidumping duty administrative review of the order on iron construction castings from Canada, the Department reviewed sales of Canada Pipe Company Ltd., including its Bibby Ste-Croix Division. Thus, the antidumping duty deposit and assessment rates calculated in the 99-00 antidumping duty administrative review of Canada Pipe Company Ltd. should be applied to Canada Pipe Company Ltd, including its unincorporated foundries, Laperle, Grand Mere, and Bibby Ste-Croix.

Comment

Canada Pipe notes that the June 24, 2002 memorandum from Holly A. Kuga to Bernard T. Carreau states that the Laperle foundry, Grand Mere foundry and the Bibby Ste-Croix foundry should receive the same cash deposit and assessment rates as Canada Pipe Company Ltd., however the Preliminary Results published in the Federal Register only address the cash deposit rate. Canada Pipe assumes that this omission was unintentional and urges the Department to clearly specify in the final results of this review that its finding applies both to cash deposit and assessment rates.

Department's Position

We agree with Canada Pipe and will instruct the U.S. Customs Service that any assessment rate calculated for Canada Pipe Company Ltd. also applies to Canada Pipe Company Ltd.'s sales of subject merchandise produced by its Laperle, Grand Mere and Bibby Ste-Croix foundries.

Cash Deposit

Because the Department reviewed sales of Canada Pipe, including its Bibby Ste-Croix Division, in the 99-00 administrative review, the cash deposit rate for Canada Pipe from that review will apply to all entries of subject merchandise (including Canada Pipe's sales of subject merchandise produced by its Laperle, Grand Mere, and Bibby Ste-Croix foundries) entered, or withdrawn from warehouse, for consumption on or after April 12, 2001, the date of publication of the final results in the 99-00 administrative review. This deposit rate, 3.89 percent,² shall remain in effect until publication of the final results of the 2000-2001 administrative review which is being published concurrently with this notice.

² In the preliminary results of the changed circumstances review, we incorrectly stated that the cash deposit rate is 3.84 percent.

Assessment

As noted above, the assessment rate calculated in the 99-00 antidumping duty administrative review of Canada Pipe Company Ltd. should be applied to Canada Pipe Company Ltd. as well as its unincorporated foundries, Laperle, Grand Mere and Bibby St. Croix.

Notification

This notice also serves as a final reminder to parties subject to administrative protective orders (APOs) of their responsibility concerning the disposition of proprietary information disclosed under APO in accordance with 19 CFR 352.305(a)(3). Timely notification of the return/destruction of APO materials or conversion to judicial protective order is hereby requested. Failure to comply with the regulations and the terms of an APO is a sanctionable violation.

These final results and notice are issued and published in accordance with sections 751(b)(1) and 777(i)(1) of the Act and section 351.216 of the Department's regulations.

Dated: August 8, 2002.
Faryar Shirzad,
Assistant Secretary for Import Administration.

[FR Doc. 02-20903 Filed 8-15-02; 8:45 am]

BILLING CODE 3510-DS-S